NATIONAL SCIENCE FOUNDATION

Business and Operations Advisory Committee; Notice of Meeting

In accordance with the Federal Advisory Committee Act (Pub. L. 92-463, as amended), the National Science Foundation (NSF) announces the following meeting:

Name: Business and Operations Advisory Committee (9556)

Date/Time: November 29, 2016; 1:00 p.m. to 5:30 p.m. (EST)

November 30, 2016; 8:00 a.m. to 12:00 p.m. (EST)

Place: National Science Foundation, 4201 Wilson Boulevard, Arlington, Virginia 22230; Stafford I, Room 1235.

Type of Meeting: Open.

Contact Person: Joan Miller, National Science Foundation, 4201 Wilson Boulevard, Arlington, VA 22230; (703) 292-8200.

Purpose of Meeting: To provide advice concerning issues related to the oversight, integrity, development and enhancement of NSF's business operations.

Agenda

Tuesday, November 29, 2016; 1:00 p.m.-5:30 p.m.

Welcome/Introductions; BFA/OIRM/OLPA Updates; NSF Strategic Plan; BOAC and Operations with its Subcommittees; Update from Subcommittee on National Academy of Public Administration (NAPA); Application of Lessons Learned from Other Lessons-Learned Programs.

Wednesday, November 30, 2016; 8:00 a.m.-12:00 p.m.

Results from the 2016 Federal Employees Viewpoint Survey (FEVS); Discussion with Director and Chief Operating Officer; Update: Committee on Equal Opportunities in Science and Engineering (CEOSE); Meeting Wrap-Up.

Dated: November 1, 2016.
Crystal Robinson,
Committee Management Officer.

[FR Doc. 2016-26666 Filed 11-3-16; 8:45 am]

BILLING CODE 7555-01-P